DEPARTMENT OF COMMERCE

National Oceanic and Atmospheric Administration

RIN: 0648-XK51

Fisheries of the South Atlantic and Gulf of Mexico; Southeastern Data, Assessment, and Review (SEDAR)

AGENCY: National Marine Fisheries Service (NMFS), National Oceanic and Atmospheric Administration (NOAA), Commerce.

ACTION: Notice of change of dates for SEDAR Procedural Workshop on Catchability.

SUMMARY: The dates for the SEDAR Catchability Procedural Workshop, originally scheduled for November 17— 20, 2008, have been changed to February 9-12, 2009. See SUPPLEMENTARY INFORMATION.

DATES: The rescheduled Workshop will take place February 9, 2008, from 1 p.m.— 8 p.m.; February 10-11, 2008, from 8 a.m.— 8 p.m.; and February 12, 2008, from 8 a.m.—2 p.m.

ADDRESSES: The SEDAR Catchability Procedural Workshop will be held at the Doubletree Atlanta Buckhead, 3342 Peachtree Road, NE, Atlanta, GA 30326; telephone: (800) 222-8733.

FOR FURTHER INFORMATION CONTACT: Julie Neer, SEDAR Coordinator, 4055 Faber Place Drive, Suite 201, North Charleston, SC 29405; (843) 571-4366.

SUPPLEMENTARY INFORMATION: The original notice published in the Federal Register on September 15, 2008 (73 FR 53195). This notice announces a change of dates and time for that meeting. All other previously-published information remains unchanged.

Special Accommodations

These meetings are physically accessible to people with disabilities. Requests for sign language interpretation or other auxiliary aids should be directed to the Council office (see FOR FURTHER INFORMATION CONTACT) at least 10 business days prior to each workshop.

Dated: October 23, 2008.
Tracey L. Thompson,
Acting Director, Office of Sustainable Fisheries, National Marine Fisheries Service.

[FR Doc. E8-25607 Filed 10-27-08; 8:45 am]

BILLING CODE 3510-22-S